DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 18, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Voluntary Labeling Program for Biobased Products.

OMB Control Number: 0570-0071.

Summary of Collection: Section 9002(h) of the Farm Security and Rural Investment Act (FSRIA) of 2002, as amended by the Food, Conservation, and Energy Act (FCEA) of 2008 and the Agricultural Act of 2014, and the Agricultural Improvement Act of 2018, requires the Secretary of Agriculture to implement a voluntary labeling program that would enable qualifying biobased products to be certified with a “USDA Certified Biobased Product” label. The voluntary labeling program is one of the two main initiatives of the BioPreferred Program, which is currently implemented by USDA's Rural Business-Cooperative Service (RBCS). The voluntary labeling program is required to be consistent, where possible, with the guidelines implementing the preferred procurement of biobased products by Federal agencies, which is the second main initiative of the BioPreferred Program. The procurement initiative is also authorized under section 9002 of FSRIA and referred to hereafter as the Federal preferred procurement program. Under the preferred procurement program, Federal agencies are required to purchase with certain exceptions, biobased products that are identified, by rulemaking, for preferred procurement.

Need and Use of the Information: Under the voluntary labeling program, manufacturers and vendors must complete an application for each stand-alone biobased product or biobased product family for which they wish to use the label. The application process is electronic and is accessible through the BioPreferred Program website. In addition, manufacturers and vendors whose applications have been conditionally approved must provide certain information for RBCS to post on the BioPreferred Program website. For each product approved by the Agency for use of the label, the manufacturer or vendor must keep that information for each certified product up to date. The information requested for inclusion in the application are: (1) contact information (of the manufacturer or vendor and preparer of application) and (2) product identification information, including brand name(s), the applicable designated item category or categories or equivalent, and the biobased content of the product.

Description of Respondents: Business or other for-profit.

Number of Respondents: 300.

Frequency of Responses: Recordkeeping; Reporting: On occasion.

Total Burden Hours: 1,988.

Levi S. Harrell,
Departmental Information Collection Clearance Officer.

[FR Doc. 2024-03178 Filed 2-14-24; 8:45 am]

BILLING CODE 3410-XY-P